NATIONAL AERONAUTICS AND SPACE ADMINISTRATION

48 CFR Parts 1806, 1807, 1811, 1814, 1815, 1817, 1819, 1825, 1827, 1844, 1852, and 1872

RIN 2700-AC72

Conformance with Federal Acquisition Circular (FAC) 2001-14 and Miscellaneous Administrative and Editorial Changes

AGENCY: National Aeronautics and Space Administration.

ACTION: Final rule.

SUMMARY: This final rule revises the NASA FAR Supplement (NFS) to conform to changes made to the Federal Acquisition Regulation (FAR) by Federal Acquisition Circular 2001-14 and to make administrative and editorial changes needed to update the designated agency competition advocate, update and remove outdated references, add URL citations, and clarify the term “NASA workforce” as used in the instruction for drafting an announcement of opportunity.

EFFECTIVE DATE: August 1, 2003.

FOR FURTHER INFORMATION CONTACT: Celeste Dalton, NASA, Office of Procurement, Contract Management Division (Code HK); (202) 358-1645; e-mail: Celeste.M.Dalton@nasa.gov.

SUPPLEMENTARY INFORMATION:

A. Background

Federal Acquisition Circular 2001-14 clarified the use of the term “United States,” and made changes to the cost principles at FAR 31.205-10, Cost of Money. A change is required in NFS 1815.404-471-5, Facilities capital cost of money, to update the cross-reference to the revised FAR 31.205-10. NFS section 1825.7001 is amended to remove the phrase “ its possessions, and Puerto Rico” since it is no longer necessary based on the definition of “United States” contained in FAR Part 25. Administrative changes are made to the agency designated competition advocate and the individual the competition advocate will report to. Additionally, editorial changes are made to update and remove outdated references, clarify what is meant by the NASA workforce when used in the instructions for drafting an announcement of opportunity, and add URL citations.

B. Regulatory Flexibility Act

This final rule does not constitute a significant revision within the meaning of FAR 1.501 and Public Law 98-577, and publication for public comment is not required. However, NASA will consider comments from small entities concerning the affected NFS Parts 1806, 1807, 1811, 1814, 1815, 1817, 1819, 1825, 1827, 1844, 1852, and 1872 in accordance with 5 U.S.C. 610.

C. Paperwork Reduction Act

The Paperwork Reduction Act does not apply because the changes do not impose recordkeeping or information collection requirements which require the approval of the Office of Management and Budget under 44 U.S.C. 3501, et seq.

List of Subjects in 48 CFR Parts 1806, 1807, 1811, 1814, 1815, 1817, 1819, 1825, 1827, 1844, 1852, and 1872

Government procurement.

Charles W. Duff II,
Acting Assistant Administrator for Procurement.

Accordingly, 48 CFR parts 1806, 1807, 1811, 1814, 1815, 1817, 1819, 1825, 1827, 1844, 1852, and 1872 are amended as follows:

1. The authority citation for 48 CFR Parts 1806, 1807, 1811, 1814, 1815, 1817, 1819, 1825, 1827, 1844, 1852, and 1872 continues to read as follows:

Authority : 42 U.S.C. 2473(c)(1).

PART 1806—COMPETITION REQUIREMENTS

2. In section 1806.501, revise paragraph (1) to read as follows:

1806.501 Requirement.

(1) The Director, Program Operations Division, Code HS, is the agency competition advocate, reporting to the Assistant Administrator for Procurement on issues related to competition of NASA acquisitions.

* * * * *

PART 1807—ACQUISITION PLANNING

1807.7000 [Amended]

3. In the last sentence of section 1807.7000, remove the URL “(http://procurement.nasa.gove/cgi-bin/CCI/first.cgi)” and add “(http://prod.nais.nasa.gov/cgi-bin/cci/first.cgi)” in its place.

PART 1811—DESCRIBING AGENCY NEEDS

4. Section 1811.600 is added to read as follows:

1811.600 Scope of subpart.

The Defense Priorities and Allocations System (15 CFR part 700) may be viewed at http://www.doc-bxa.bmpcoe.org/dpas-docs/dpasreg.pdf.

PART 1814—SEALED BIDDING

1814.407-3 [Amended]

5. In paragraph (e) of section 1814.407-3, add the abbreviation “FAR” immediately before 14.407-3(a).

PART 1815—CONTRACTING BY NEGOTIATIONS

1815.404-471-5 [Amended]

6. In paragraph (a) of section 1815.404-471-5, remove “FAR 31.205-10(a)(2)” and add “FAR 31.205-10(b)” in its place.

PART 1817—SPECIAL CONTRACTING METHODS

1817.7002 [Amended]

7. In paragraph (b) of section 1817.7002, remove “1817.504(b)(4)” and add “1817.7203” in its place.

PART 1819—SMALL BUSINESS PROGRAMS

8. Revise paragraph (a) of section 1819.7002 to read as follows:

1819.7002 Contracting officer responsibility.

(a) Contracting officers must seek out as potential sources small disadvantaged business concerns, women-owned small business concerns, historically black colleges or universities and minority institutions, and give full consideration to these entities to satisfy NASA requirements. The participation of NASA prime contractors is also essential to meeting the Agency's 8 percent goal.

* * * * *

PART 1825—FOREIGN ACQUISITION

1825.7001 [Amended]

9.-10. in paragraph (a) of section 1825.7001, remove the phrase “, its possessions, and Puerto Rico”.

1825.7002 [Amended]

11. In section 1825.7002, amend paragraph (b)(1)(ii) by adding “(pursuant to NPD 1050.1) “after the word involved”.

PART 1827—PATENTS, DATA, AND COPYRIGHTS

12. In section 1827.404, paragraph (g)(3)(B)(c) is revised to read as follows:

1827.404 Basic rights in data clause.

* * * * *

(g) * * *

(3) * * *

(B) * * *

(c) The concurrence of the Headquarters Office of Aerospace Technology, Commercial Technology Division (Code RC) is obtained.

PART 1844—SUBCONTRACTING POLICIES AND PROCEDURES

1844.302-71 [Amended]

13. Amend section 1844.302-71 by removing paragraph (a) and redesignating paragraphs (b) and (c) as (a) and (b) respectively.

PART 1852—SOLICITATION PROVISIONS AND CONTRACT CLAUSES

1852.246-72 [Amended]

14. Amend the clause at 1852.246-72 by—

(a) Revising the date of the clause to read “August 2003”; and

(b) Removing “1846.672-1” from the first sentence of paragraph (b) and adding “1846.6” in its place.

PART 1872—ACQUISITIONS OF INVESTIGATIONS

15. In section 1872.705, revise paragraph II (3) to read as follows:

1872.705 Format of Announcement of Opportunity (AO).

* * * * *

II. NASA's Safety Priority.

* * * * *

(3) The NASA workforce (including contractor employees working on NASA contracts); and

* * * * *

[FR Doc. 03-19640 Filed 7-31-03; 8:45 am]

BILLING CODE 7510-01-U